DEPARTMENT OF THE INTERIOR

National Park Service

[NPS-WASO-NRNHL-DTS#-40624; PPWOCRADI0, PCU00RP14.R50000]

National Register of Historic Places; Notification of Pending Nominations and Related Actions

AGENCY: National Park Service, Interior.

ACTION: Notice.

SUMMARY: The National Park Service is soliciting electronic comments on the significance of properties nominated before July 5, 2025, for listing or related actions in the National Register of Historic Places.

DATES: Comments should be submitted electronically by August 12, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before July 5, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CONNECTICUT

Windham County

Isaac and Sarah Upham House, 51 Quinebaug Road, Thompson, SG100012114

KANSAS

Atchison County

Atchison's Black Business District, 1118 North 7th Street, Atchison, SG100012099

Park, Anna & Richard Avery, Mansion, 517 Parallel Street, Atchison, SG100012100

Cowley County

First Presbyterian Church, 1101 Millington Street, Winfield, SG100012098

Douglas County

Akers House (Lawrence, Kansas MPS), 1645 Louisiana Street, Lawrence, MP100012096

First Methodist Episcopal Church, 704 8th Street, Baldwin, SG100012097

Thomas House (Lawrence, Kansas MPS), 1904 Meadowlark Lane, Lawrence, MP100012119

Meade County

Hotel Bunyan, 211 Main Street, Fowler, SG100012120

Miami County

First Presbyterian Church of Paola, 110 East Peoria Street, Paola, SG100012121

MARYLAND

Queen Anne's County

Salem School (Rosenwald Schools of Maryland MPS), 3302 Church Hill Road, Church Hill, MP100012113

MICHIGAN

Kent County

Auburn Hills Historic District, Auburn Avenue NE, Dale Court NE, Drexel Court NE, Palmer Court NE, Travis Street NE, and 1301 Sweet Street NE, Grand Rapids, SG100012128

NEW YORK

Jefferson County

Snell-Gillett House, 213 Mill Street, Theresa, SG100012104

Ontario County

St. Stephen's Roman Catholic Church Complex, 48 Pulteney Street, 17 Elmwood Avenue, and 90 Pulteney Street, Geneva, SG100012105

Saratoga County

Ballston Spa National Bank, 87 Front Street, Ballston Spa, SG100012106

Suffolk County

John Steinbeck Cottage, 2 Bluff Point Lane, Sag Harbor, SG100012103

Warren County

Mohican Point, 4860 Lake Shore Drive (9N), Bolton Landing, SG100012102

NORTH CAROLINA

Mecklenburg County

Johnston Building, 212 S Tryon Street, Charlotte, SG100012112

Moore County

Vass Cotton Mill, 340 Seaboard Street, Vass, SG100012101

Trinity AME Zion Church, 972 West Pennsylvania Avenue, Southern Pines, SG100012117

PENNSYLVANIA

Berks County

First Reformed Church, 621 Washington Street, Reading, SG100012115

Cambria County

Johnstown Masonic Temple, 130 Valley Pike, Johnstown, SG100012125

Mercer County

Jeremiah Sturgeon Chapel, 233 George Junior Road, Grove City, SG100012129

Montgomery County

Lynnewood Hall, 920 Spring Avenue, Elkins Park, SG100012095

Northampton County

Heller-Wagner Grist Mill (Hellertown), 150 W Walnut St., Hellertown, SG100012126

VERMONT

Windsor County

Demers Avenue Historic District, 41, 43, 53, 65, 71, 83 Demers Avenue, Hartford, SG100012107

Victory Circle-Highland Park Historic District, Victory Circle, Highland Avenue, Hartford, SG100012108

VIRGINIA

Nelson County

Shipman Historic District, James River Road (Route 56), Craigtown Road (Route 639), Braddock Lane, Lentz Lane, Marietta Lane, Church Street, Lonesome Pine Road, Shipman, SG100012116

Newport News INDEPENDENT CITY

Stuart Gardens Apartments, Garden Drive, Roanoke Avenue, 16th Street, Jebs Place, Newport News, SG100012123

Roanoke INDEPENDENT CITY

Lucy Addison High School, 40 Douglass Avenue NW, Roanoke, SG100012118

Staunton INDEPENDENT CITY

Fairview Cemetery, 11 Lambert Street, Staunton, SG100012124

WISCONSIN

Dodge County

Widmer' s Cheese Cellars, 214 West Henni Street, Theresa, SG100012094

Additional documentation has been received for the following resource(s):

WISCONSIN

Walworth County

Elkhorn Band Shell (Additional Documentation), Sunset Park, bounded by Devendorf, W. Centralia, & Park Sts., Elkhorn, AD12000490

(Authority: Section 60.13 of 36 CFR part 60)

Sherry A. Frear,
Chief, National Register of Historic Places/National Historic Landmarks Program.

[FR Doc. 2025-14144 Filed 7-25-25; 8:45 am]

BILLING CODE 4312-52-P